DEPARTMENT OF COMMERCE

Office of the Secretary

Approved Information Collection Activities; Comment Request; Generic Clearance for the Collection of Qualitative Feedback on Agency Service Delivery; Correction

AGENCY: Office of the Secretary, Commerce.

ACTION: Notice; correction.

SUMMARY: On June 9, 2020, the Department of Commerce, published a 30-day public comment period notice in the Federal Register with FR Document Number 2020-12413 (Pages 35257-35258), and on March 24, 2020, published a 60-day public comment period notice with FR Document Number 2020-06174 (Page 16612) seeking public comments for an information collection entitled, “Generic Clearance for the Collection of Qualitative Feedback on Agency Service Delivery.” This document referenced incorrect information in the DATA section, and Commerce hereby issues a correction notice as required by the Paperwork Reduction Act of 1995.

FOR FURTHER INFORMATION CONTACT: For additional information contact the DOC PRA Clearance Officer, Office of Policy and Governance at PRAcomments@doc.gov.

SUPPLEMENTARY INFORMATION:

Correction

Data

Estimated Number of Respondents: 141,900.

Estimated Total Annual Burden Hours: 31,848.

Estimated Cost to the Public: $265,188.

This information collection request may be viewed at www.reginfo.gov. Follow the instructions to view the Department of Commerce collections currently under review by OMB.

Written comments and recommendations for the proposed information collection should be submitted within 30 days of the initial publication notice date of June 9, 2020 on the following website www.reginfo.gov/public/do/PRAMain. Find this particular information collection by selecting “Currently under 30-day Review—Open for Public Comments” or by using the search function and entering either the title of the collection or the OMB Control Number 0690-0030.

Sheleen Dumas,
Department PRA Clearance Officer, Office of the Chief Information Officer, Commerce Department.

[FR Doc. 2020-13074 Filed 6-16-20; 8:45 am]

BILLING CODE 3510-DT-P